COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add services to the Procurement List that will be provided by nonprofit agencies employing persons who are blind or have other severe disabilities.

Comments Must be Received On or Before: 2/28/2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Prime Vendor Support for Foreign Military Sales RDECOM Contracting Center—Aberdeen (Off-site: 507 Kent Street, Utica NY)

NPA: Central Association for the Blind & Visually Impaired, Utica, NY

Contracting Activity: Dept of the Army, PR W2DF RDECOM Acquisition Center, Aberdeen Proving Ground, MD

Service Type/Location: Hospital Housekeeping Service Ireland Army Community Hospital and associated clinics 851 Ireland Loop Fort Knox, KY

NPA: Professional Contract Services, Inc., Austin, TX

Contracting Activity: Dept of the Army, XR W40M Natl Region Contract OFC, Washington, DC

Service Type/Location: Full Food Service USMA Preparatory School West Point, NY

NPA: New Dynamics Corporation, Middletown, NY

Contracting Activity: Mission And Installation Contracting Command—West Point, NY

The DoD contracting activity identified its requirements as Full Food Service; therefore, as required, initially offered this opportunity to the New York State Commission for the Blind and Visually Handicapped Business Enterprise Program (NYCBVH) under the Randolph-Sheppard Act (RSA). The NYCBVH notified the contracting activity via letters on November 2, 2010 and December 1, 2010, that they would not be exercising its priority to provide the services under the RSA and would not disturb the status quo if the project is awarded to another vendor. Accordingly, after coordination with the contracting activity, this project is being considered for addition to the AbilityOne Procurement List.

Service Type/Location: Base Operations Support Service Directorate of Public Works (DPW)/Directorate of Logistics (DOL) Carlisle Barracks, Carlisle, PA

NPA: The Chimes, Inc., Baltimore, MD

Contracting Activity: Dept of the Army, Mission and Installation Command (MICC)—Fort Eustis (Joint Base Langley-Eustis), Fort Eustis, VA

Barry S. Lineback,
Director, Business Operations.

[FR Doc. 2011-1886 Filed 1-27-11; 8:45 am]

BILLING CODE 6353-01-P